DEPARTMENT OF COMMERCE

Foreign-Trade Zones Board

[Docket 16-2009]

Foreign-Trade Zone 17—Kansas City, KS Area; Application for Expansion

An application has been submitted to the Foreign-Trade Zones (FTZ) Board (the Board) by the Greater Kansas City Foreign Trade Zone, Inc., grantee of FTZ 17, requesting authority to expand the zone in the Kansas City, Kansas, area, adjacent to the Kansas City Customs and Border Protection port of entry. The application was submitted pursuant to the provisions of the Foreign-Trade Zones Act, as amended (19 U.S.C. 81a-81u), and the regulations of the Board (15 CFR part 400). It was formally filed on April 13, 2009.

FTZ 17 was approved by the Board on December 20, 1973 (Board Order 97, 39 FR 26, 1/2/74) and expanded on January 31, 1989 (Board Order 428, 54 FR 5992, 2/7/89), on January 15, 1993 (Board Order 631, 58 FR 6122 1/26/93), and, on October 14, 1997 (Board Order 925, 62 FR 55574, 10/27/97). The general-purpose zone project currently consists of 7 sites (3,411 acres total): Site 1 (7 acres)—located at 6500 Inland Drive in Kansas City; Site 2 (5 acres)—located at 5203 Speaker Road in Kansas City; Site 3 (5 acres)—within the Fairfax Industrial Park located at 30 Funston Road in Kansas City; Site 4 (1 acre)—within the Fairfax Industrial Park located at 830 Kindleberger Road in Kansas City; Site 5 (21 acres, 2 parcels)—within the Leavenworth Area Business Center located at 13th and Eisenhower Road in Leavenworth; Site 6 (2,400 acres)—located at the Forbes Field Airport/Topeka Air Industrial Park in Topeka; and, Site 7 (972 acres)—the Philip Billard Airport/Industrial Park located at 6700 South Topeka Boulevard in Topeka.

The applicant is now requesting authority to expand the general-purpose zone to include the Midwest Commerce Center, located at 17150 Mercury Street in Gardner, Kansas (Johnson County). The proposed new site (156 acres) would be designated as Site 8. The site is owned by U.S. Industrial REIT II, and will be used for warehousing, storage and distribution activities. No specific manufacturing requests are being made at this time. Such requests would be made to the Board on a case-by-case basis.

In accordance with the Board's regulations, Christopher Kemp of the FTZ staff is designated examiner to investigate the application and report to the Board.

Public comment is invited from interested parties. Submissions (original and 3 copies) shall be addressed to the Board's Executive Secretary at the address listed below. The closing period for their receipt is June 19, 2009. Rebuttal comments in response to material submitted during the foregoing period may be submitted during the subsequent 15-day period (to July 6, 2009).

A copy of the application and accompanying exhibits will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Christopher Kemp at christopher_kemp@ita.doc.gov or (202) 482-0862.

Dated: April 13, 2009.
Andrew McGilvray,
Executive Secretary.

[FR Doc. E9-9041 Filed 4-17-09; 8:45 am]

BILLING CODE 3510-DS-P